DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of October 23 through October 27, 2006.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issued a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-W-60,164; ZF Boge Elastametall, Rubber-Metal Technology Division, Paris, IL: September 28, 2005.

TA-W-60,244; Mosey Manufacturing Co., Inc., Plant #7, Richmond, IN: October 12, 2005.

The following certifications have been issued. The requirements of Section 222(a)(2)(B) (shift in production) of the Trade Act have been met.

None.

The following certifications have been issued. The requirements of Section 222(b) (supplier to a firm whose workers are certified eligible to apply for TAA) of the Trade Act have been met.

None.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-60,030; M. Wile Company, Rector Sportswear, Rector, AR: September 7, 2005.

TA-W-60,123; De Sta Co Industries, A Wholly Owned Subsidiary of Dover Resources, Canton, MI: September 19, 2005.

TA-W-60,129; M. Wile and Company, dba HMX Tailored, Buffalo, NY: September 12, 2005.

TA-W-60,178; Trafalgar Company (The) Marley Hodgson Division, Norwalk, CT: September 29, 2005.

TA-W-60,180; Cadence Innovation, LLC, Injection Tool Construction Business, Secondary Equipment Construction and Fabrication Business, Chesterfield, MI: October 2, 2005.

TA-W-60,180A; Cadence Innovation, LLC, Injection Tool Construction Business, Secondary Equipment Construction and Fabrication Business, Sterling Heights, MI: October 2, 2005.

TA-W-60,180B; Cadence Innovation, LLC, Injection Tool Construction Business, Fraser, MI: October 2, 2005.

TA-W-60,203; Performance Fibers, Formerly Known As Diolen, Scottsboro, AL: October 4, 2005.

TA-W-60,023; Benchmark Electronics, Loveland Division, Loveland, CO: September 6, 2005.

TA-W-60,077; Oxford Collections, Woman's Catalog Division, New York, NY: August 25, 2005.

TA-W-60,077A; Oxford Collections, Woman's Catalog Division, Gaffney, SC: August 25, 2005.

TA-W-60,091; Bowater Nuway, Benton Harbor, MI: September 14, 2005.

TA-W-60,143; Bloomsburg Mills, A Subsidiary of Penn Columbia Corp., Monroe, NC: September 25, 2005.

TA-W-60,143A; Bloomsburg Mills, Corporate/Sales Office, A Subsidiary of Penn Columbia Corp., New York, NY: September 25, 2005.

The following certifications have been issued. The requirements of Section 222(a)(2)(B) (shift in production) and Section 246(a)(3)(A)(ii) of the Trade Act have been met.

TA-W-60,075; Eaton Corporation, Hydraulics Division, Spencer, IA: September 13, 2005.

TA-W-60,172; Sunshine School Uniforms and Supply Co., Medley, FL: September 27, 2005.

TA-W-60,189; Sebago USA LLC, A Subsidiary of Wolverine World Wide, Portland, ME: October 2, 2005.

TA-W-60,206; Kentucky Derby Hosiery Co., Plant 6, Also Known As Lynne Plant, Mt. Airy, NC: October 2, 2005.

TA-W-60,206A; Kentucky Derby Hosiery Co., Plant 7, Also Know As Forest Drive Plant, Mt. Airy, NC: October 2, 2005.

TA-W-60,218; Alcoa Global Fasteners, Alcoa Fastening Systems Division, Stoughton, MA: September 25, 2005.

TA-W-60,230; Creative Engineered Polymer Products, LLC, aka CEP Products, LLC, Crestline, OH: October 10, 2005.

TA-W-60,183; Signature Fruit Company, LLC, Plant Number 1, Modesto, CA: September 28, 2005.

TA-W-60,092; Measurement Computing Corp., Norton, MA: September 14, 2005.

TA-W-60,141; ESCO Company, Limited Partnership, Plant 2, Muskegon, MI: September 19, 2005.

TA-W-60,188; Jackson Manufacturing, A Subsidiary of Jackson Furniture Industries, Cleveland, TN: September 15, 2005.

TA-W-60,188A; Catnapper, A Subsidiary of Jackson Furniture Industries, Cleveland, TN: September 15, 2005.

TA-W-60,249; ADVO, Inc., Graphics Print Department, Pittsburgh, PA: October 16, 2005.

TA-W-60,249A; ADVO, Inc., Graphics Print Department, Phoenix, AZ: October 16, 2005.

The following certifications have been issued. The requirements of Section 222(b) (supplier to a firm whose workers are certified eligible to apply for TAA) and Section 246(a)(3)(A)(ii) of the Trade Act have been met.

TA-W-60,138; Quaker Fabric Corporation, Plant N, Fall River, MA: September 25, 2005.

TA-W-60,138A; Quaker Fabric Corporation, Plant Q, Fall River, MA: September 25, 2005.

The following certifications have been issued. The requirements of Section 222(b) (downstream producer for a firm whose workers are certified eligible to apply for TAA based on increased imports from or a shift in production to Mexico or Canada) and Section 246(a)(3)(A)(ii) of the Trade Act have been met.

None.

Negative Determinations for Alternative Trade Adjustment Assistance

In the following cases, it has been determined that the requirements of 246(a)(3)(A)(ii) have not been met for the reasons specified.

The Department has determined that criterion (1) of Section 246 has not been met. Workers at the firm are 50 years of age or older.

TA-W-60,164; ZF Boge Elastametall, Rubber-Metal Technology Division, Paris, IL.

The Department has determined that criterion (2) of Section 246 has not been met. Workers at the firm possess skills that are easily transferable.

TA-W-60,244; Mosey Manufacturing Co., Inc., Plant #7, Richmond, IN.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-60,049; Energy and Automation, Norwood, OH.

The investigation revealed that criteria (a)(2)(A)(I.B.) (Sales or production, or both, did not decline) and (a)(2)(B)(II.B.) (shift in production to a foreign country) have not been met.

None.

The investigation revealed that criteria (a)(2)(A)(I.C.) (increased imports) and (a)(2)(B)(II.B.) (shift in production to a foreign country) have not been met.

TA-W-60,135; Rothtec Engraving Corp., Charlotte, NC.

The investigation revealed that the predominate cause of worker separations is unrelated to criteria (a)(2)(A)(I.C.) (increased imports) and (a)(2)(B)(II.C) (shift in production to a foreign country under a free trade agreement or a beneficiary country under a preferential trade agreement, or there has been or is likely to be an increase in imports).

TA-W-60,137; Mudd (USA), LLC, New York, NY.

The workers' firm does not produce an article as required for certification under Section 222 of the Trade Act of 1974.

None.

The investigation revealed that criteria of Section 222(b)(2) has not been met. The workers' firm (or subdivision) is not a supplier to or a downstream producer for a firm whose workers were certified eligible to apply for TAA.

None.

I hereby certify that the aforementioned determinations were issued during the period of October 23 through October 27, 2006. Copies of these determinations are available for inspection in Room C-5311, U.S. Department of Labor, 200 Constitution Avenue, NW., Washington, DC 20210 during normal business hours or will be mailed to persons who write to the above address.

Dated: November 3, 2006.
Linda G. Poole,
Certifying Officer, Division of Trade Adjustment Assistance.

[FR Doc. E6-19346 Filed 11-15-06; 8:45 am]

BILLING CODE 4510-30-P